DEPARTMENT OF COMMERCE

National Oceanic and Atmospheric Administration

50 CFR Part 622

RIN 0648-BC38

Fisheries of the Caribbean, Gulf of Mexico, and South Atlantic; Amendment to the Corals and Reef Associated Plants and Invertebrates Fishery Management Plan of Puerto Rico and the U.S. Virgin Islands

AGENCY: National Marine Fisheries Service (NMFS), National Oceanic and Atmospheric Administration (NOAA), Commerce.

ACTION: Notice of availability; request for comments.

SUMMARY: The Caribbean Fishery Management Council (Council) has submitted Amendment 4 to the Fishery Management Plan (FMP) for Corals and Reef Associated Plants and Invertebrates of Puerto Rico and the U.S. Virgin Islands (USVI) (Coral FMP) for review, approval, and implementation by NMFS. Amendment 4 to the Coral FMP proposes to modify management of seagrasses in the U.S. Caribbean exclusive economic zone (EEZ). The intent of Amendment 4 to the Coral FMP is to address the future management of seagrasses in the U.S. Caribbean EEZ in accordance with the Magnuson-Stevens Fishery Conservation and Management Act (Magnuson-Stevens Act).

DATES: Written comments must be received on or before April 26, 2013.

ADDRESSES: You may submit comments on Amendment 4 to the Coral FMP, identified by “NOAA-NMFS-2013-0021”, by any of the following methods:

• Electronic Submission: Submit all electronic public comments via the Federal e-Rulemaking Portal. Go to www.regulations.gov/#!docketDetail;D=NOAA-NMFS-2013-0021, click the “Comment Now!” icon, complete the required fields, and enter or attach your comments.

• Mail: Submit written comments to Maria del Mar Lopez, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

Electronic copies of the amendment may be obtained from the Southeast Regional Office Web site at: http://sero.nmfs.noaa.gov/index.html.

FOR FURTHER INFORMATION CONTACT: Maria del Mar Lopez, Southeast Regional Office, NMFS, telephone: 727-824-5305, email: Maria.Lopez@noaa.gov.

SUPPLEMENTARY INFORMATION: Seagrasses in the EEZ off Puerto Rico and the USVI are managed under the Coral FMP. The Coral FMP was prepared by the Council and is implemented under the authority of the Magnuson-Stevens Act by regulations at 50 CFR part 622. The Magnuson-Stevens Act also requires that NMFS, upon receiving a plan or amendment, publish an announcement in the Federal Register notifying the public that the plan or amendment is available for review and comment.

Background

The Magnuson-Stevens Act requires the establishment of annual catch limits (ACLs) and accountability measures (AMs) to end overfishing and prevent overfishing from occurring. Annual catch limits are levels of annual catch of a stock or stock complex that are set to prevent overfishing from occurring. Accountability measures are management controls to prevent ACLs from being exceeded, and to correct or mitigate overages of the ACL if they occur.

To address the requirements of the Magnuson-Stevens Act, NMFS published a final rule to implement the 2011 Caribbean ACL Amendment on December 30, 2011 (76 FR 82414), which included Amendment 3 to the Coral FMP. However, ACLs and AMs for seagrasses, which are included in the Coral FMP, were not established at that time. In Amendment 4 to the Coral FMP, the Council considered whether to set an ACL for seagrasses, designate seagrasses as ecosystem component (EC) species, or remove seagrasses from the Coral FMP.

Action Contained in the Amendment

Amendment 4 to the Coral FMP proposes to modify the management of seagrass species included in the Coral FMP. The Coral FMP currently includes four individual species of seagrasses: turtle grass (Thalassia testudinum), manatee grass (Syringodium filiforme), shoal grass (Halodule wrightii), widgeon grass (Ruppia maritima), and one group of species, the sea vines (Halophila spp., including H. decipiens, H. baillonis, H. engelmannii, and H. stipulacea (exotic)), all of which occur in U.S. Caribbean waters. Seagrasses were included in 1994 as members of the coral reef resources fishery management unit (FMU) of the Coral FMP. The Coral FMP defined the coral reef resources FMU to include a vast array of plants and invertebrates that provide habitats that are essential to the growth, development, and survival of managed finfish and other marine organisms.

The location, presence, and distribution of seagrasses in the EEZ are not well known. The best available scientific information indicates that the vast majority of seagrasses occur in shallower waters of Puerto Rico and the USVI due to depth associated light limitations found in the EEZ. Both Puerto Rico and the USVI regulate activities involving seagrasses through their respective coastal zone management programs. Seagrasses have been identified as essential fish habitat (EFH) for stocks within the four Council FMPs (Reef Fish, Queen Conch, Spiny Lobster, and Coral). Essential fish habitat is defined by the Magnuson-Stevens Act as those waters and substrates necessary to fish for spawning, breeding, feeding or for growth to maturity. Additionally, seagrasses have also been identified as habitat areas of particular concern (HAPC) within special areas in Puerto Rico commonwealth and USVI territorial waters (state waters).

There is presently no known targeted or indirect harvest of any of the seagrass species included in the Coral FMP, either from the EEZ or from state waters, and future harvest is not anticipated.

In Amendment 4 to the Coral FMP, the Council considered whether to take no action, set an ACL for seagrasses, designate seagrasses as EC species, or remove seagrasses from the Coral FMP. The Magnuson-Stevens Act's National Standard 7 guidelines (50 CFR 600.340) require Councils to prepare FMPs only for overfished fisheries and other fisheries where regulation would serve some useful purpose, and where the present or future benefit of regulation would justify the costs. Because there is no known harvest of seagrass species, and these species occur predominantly in state waters, the Council determined that Federal management of seagrasses is unnecessary. Further, removing seagrasses from the Coral FMP would not affect the designation of seagrasses as EFH and HAPC for stocks within the Queen Conch Resources of Puerto Rico and the USVI FMP, Reef Fish Fishery of Puerto Rico and the USVI FMP, FMP for the Spiny Lobster Fishery of Puerto Rico and the USVI, and Coral FMP. Seagrasses would continue to be protected by these designations, which require, among other things, that FMPs to minimize to the extent practicable adverse effects on EFH caused by fishing. In addition, other management measures currently in place, such as gear restrictions and closed areas, would continue protection to these important habitats.

Proposed Rule for Amendment 4 to the Coral FMP

A proposed rule that would implement Amendment 4 to the Coral FMP has been drafted. In accordance with the Magnuson-Stevens Act, NMFS is evaluating Amendment 4 to the Coral FMP to determine whether it is consistent with the FMP, the Magnuson-Stevens Act, and other applicable law. If the determination is affirmative, NMFS will publish the proposed rule in the Federal Register for public review and comment.

Consideration of Public Comments

The Council submitted Amendment 4 to the Coral FMP for Secretarial review, approval, and implementation. NMFS' decision to approve, partially approve, or disapprove Amendment 4 to the Coral FMP will be based, in part, on consideration of comments, recommendations, and information received during the comment period on this notice of availability.

Comments received by April 26, 2013, whether specifically directed to the amendment or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: February 20, 2013.
Kara Meckley,
Acting Deputy Director, Office of Sustainable Fisheries, National Marine Fisheries Service.

[FR Doc. 2013-04266 Filed 2-22-13; 8:45 am]

BILLING CODE 3510-22-P